DEPARTMENT OF THE INTERIOR

Fish and Wildlife Service

50 CFR Part 21

[Docket No. FWS-HQ-MB-2014-0067; FF09M29000-156-FXMB1232090BPP0]

Migratory Bird Permits; Programmatic Environmental Impact Statement

AGENCY: Fish and Wildlife Service, Interior.

ACTION: Announcement.

SUMMARY: We, the U.S. Fish and Wildlife Service (Service), inform the public that we are no longer considering preparation of a programmatic environmental impact statement (PEIS) pursuant to the National Environmental Policy Act to evaluate the potential environmental impacts of a proposed rule to authorize incidental take of migratory birds under the Migratory Bird Treaty Act.

DATES: As of May 24, 2018, no further action will be taken in regard to the notice of intent to prepare a PEIS that was published in the Federal Register on May 26, 2015 (80 FR 30032).

ADDRESSES: The notice of intent and the comments received can be viewed online at www.regulations.gov in Docket No. FWS-HQ-MB-2014-0067.

FOR FURTHER INFORMATION CONTACT: Ken Richkus, Deputy Chief, Division of Migratory Bird Management, U.S. Fish and Wildlife Service, 5275 Leesburg Pike, Falls Church, VA 22041-3803, telephone 703-358-1780.

SUPPLEMENTARY INFORMATION:

Background

On May 26, 2015, the Service published in the Federal Register a notice of intent (80 FR 30032) to prepare a programmatic environmental impact statement (PEIS) pursuant to the National Environmental Policy Act (NEPA; 42 U.S.C. 4321-4347). The purpose of the PEIS was to evaluate the potential environmental impacts of a proposal to authorize incidental take of migratory birds under the Migratory Bird Treaty Act (MBTA; 16 U.S.C. 703-711). The Service was considering rulemaking to address various approaches to regulating incidental take of migratory birds. The regulations would also have provided protection for entities that had taken efforts to reduce incidental take by promoting implementation of appropriate conservation measures to avoid or reduce avian mortality.

Announcement

Due to issuance of the December 22, 2017, DOI Solicitor Opinion (M-37050), the actions contemplated are superseded, and we are no longer pursuing action on the PEIS as announced in the notice of intent that was published in the Federal Register on May 26, 2015 (80 FR 30032). We publish this document under the authorities of NEPA and the MBTA.

Dated: May 16, 2018.
James W. Kurth,
Deputy Director for U.S. Fish and Wildlife Service, Exercising the Authority of the Director for U.S. Fish and Wildlife Service.

[FR Doc. 2018-11147 Filed 5-23-18; 8:45 am]

BILLING CODE 4310-55-P